SOCIAL SECURITY ADMINISTRATION

The Ticket To Work and Work Incentives Advisory Panel Meeting

AGENCY: Social Security Administration (SSA).

ACTION: Notice of meeting.

DATES: November 16, 2004, 10:30 a.m.-4 p.m.* November 17, 2004, 9 a.m.-5 p.m. November 18, 2004, 9 a.m.-1 p.m.

*The full deliberative panel meeting ends at 4 p.m. The standing committees of the Panel will meet from 4 p.m. until 5:30 p.m.

ADDRESSES: Double Tree Hotel Rockville, 1750 Rockville Pike, Rockville, MD 20852, Phone: (301) 468-1100.

SUPPLEMENTARY INFORMATION: Type of meeting: This is a quarterly meeting open to the public. The public is invited to participate by coming to the address listed above. Public comment will be taken during the quarterly meeting. The public is also invited to submit comments in writing on the implementation of the Ticket To Work and Work Incentives Improvement Act (TWWIIA) of 1999 at any time.

Purpose: In accordance with section 10(a)(2) of the Federal Advisory Committee Act, SSA announces a meeting of the Ticket To Work and Work Incentives Advisory Panel (the Panel). Section 101(f) of Pub. L. 106-170 establishes the Panel to advise the President, the Congress, and the Commissioner of SSA on issues related to work incentives programs, planning, and assistance for individuals with disabilities as provided under section 101(f)(2)(A) of the TWWIIA. The Panel is also to advise the Commissioner on matters specified in section 101(f)(2)(B) of that Act, including certain issues related to the Ticket To Work and Self-Sufficiency Program established under section 101(a) of that Act.

Interested parties are invited to attend the meeting. The Panel will use the meeting time to receive briefings, hear presentations, conduct full Panel deliberations on the implementation of TWWIIA, and receive public testimony.

The Panel will meet in person commencing on Tuesday, November 16, 2004 from 10:30 a.m. to 4 p.m. (standing committee meetings from 4 p.m. to 5:30 p.m.); Wednesday, November 17, 2004 from 9 a.m. to 5 p.m.; and Thursday, November 18, 2004 from 9 a.m. to 1 p.m.

Agenda: The Panel will hold a quarterly meeting. Briefings, presentations, full Panel deliberations and other Panel business will be held Tuesday, Wednesday and Thursday, November 16, 17, and 18, 2004. Public testimony will be heard in person Tuesday, November 16, 2004 from 3:30 p.m. to 4 p.m. and on Thursday, November 18, 2004 from 9 a.m. to 9:30 a.m. Members of the public must schedule a timeslot in order to comment. In the event that the public comments do not take up the scheduled time period for public comment, the Panel will use that time to deliberate and conduct other Panel business.

Individuals interested in providing testimony in person should contact the Panel staff as outlined below to schedule time slots. Each presenter will be called on by the Chair in the order in which they are scheduled to testify and is limited to a maximum five-minute verbal presentation. Full written testimony on TWWIIA Implementation, no longer than 5 pages, may be submitted in person or by mail, fax or email on an on-going basis to the Panel for consideration.

Since seating may be limited, persons interested in providing testimony at the meeting should contact the Panel staff by e-mailing Shirletta Banks, at Shirletta.Banks@ssa.gov or calling (202) 358-6430.

The full agenda for the meeting will be posted on the Internet at http://www.ssa.gov/work/panel at least one week before the meeting or can be received in advance electronically or by fax upon request.

Contact Information: Anyone requiring information regarding the Panel should contact the TWWIIA Panel staff. Records are being kept of all Panel proceedings and will be available for public inspection by appointment at the Panel office. Anyone requiring information regarding the Panel should contact the Panel staff by:

• Mail addressed to Social Security Administration, Ticket To Work and Work Incentives Advisory Panel Staff, 400 Virginia Avenue, SW., Suite 700, Washington, DC, 20024.

• Telephone contact with Kristen Breland at (202) 358-6423.

• Fax at (202) 358-6440.

• E-mail to TWWIIAPanel@ssa.gov.

Dated: October 15, 2004.
Carol Brenner,
Designated Federal Officer.

[FR Doc. 04-23765 Filed 10-22-04; 8:45 am]

BILLING CODE 4191-02-P